FEDERAL COMMUNICATIONS COMMISSION

47 CFR Parts 2 and 25

[IB Docket No. 07-101; FCC 07-86]

Proposal to Allocate Spectrum and Adopt Rules to License Vehicle-Mounted Earth Stations in Certain Ku-band Frequencies Allocated to the Fixed-Satellite Service

AGENCY: Federal Communications Commission.

ACTION: Notice of proposed rulemaking.

SUMMARY: The Federal Communications Commission seeks comment on whether to license Vehicle-Mounted Earth Stations as an application of the Fixed-Satellite Service in the conventional and extended Ku-band frequencies. The Commission initiates this proceeding in response to a petition for rulemaking filed by General Dynamics SATCOM Technologies, Inc. General Dynamics asks the Commission to amend parts 2 and 25 of the rules to allocate spectrum for use with VMES in the FSS in the Ku-band uplink at 14.0-14.5 GHz and Ku-band downlink at 11.7-12.2 GHz on a primary basis, and in the extended Ku-band downlink at 10.95-11.2 GHz and 11.45-11.7 GHz on a non-protected basis, and to adopt Ku-band VMES licensing and service rules modeled on the Commission's rules for Ku-band Earth Stations on Vessels. The Notice of Proposed Rulemaking seeks comment on the proposed adoption of co-primary allocation for VMES applications in the conventional Ku-band frequencies, and also seeks comment on service rules for VMES, possibly modeled on the current ESV rules. The NPRM observes that some of the broader applications of VMES, involving use, by the general public, of ultra-small antennas on cars and trucks, raise additional technical questions with respect to compliance with the Commission's Ku-band interference avoidance requirements. The NPRM therefore seeks comment on whether the broad commercial use, by the general public, of ultra-small antennas on vehicles traversing throughout the United States raises the potential for harmful interference to other FSS licensees or Federal government space research service and radio astronomy service operations, and, if so, whether there are technical rules that the Commission could adopt to mitigate against such harms.

DATES: Comments are due on or before August 17, 2007 and reply comments are due on or before September 4, 2007. Public and agency comments on the Initial Paperwork Reduction Act of 1995 analysis are due September 17, 2007.

ADDRESSES: You may submit comments, identified by IB Docket No. 07-101, by any of the following methods:

• Federal eRulemaking Portal: http://www.regulations.gov. Follow the instructions for submitting comments.

• Federal Communications Commission's Web site: http://www.fcc.gov/cgb/ecfs/. Follow the instructions for submitting comments.

• Mail: Commercial overnight mail (other than U.S. Postal Service Express Mail and Priority Mail) must be sent to the Commission at 9300 East Hampton Drive, Capitol Heights, MD 20743. U.S. Postal Service first-class mail, Express Mail, and Priority Mail should be addressed to 445 12th Street, SW., Washington, DC 20554. The Commission's mail contractor, Vistronix, Inc., will receive hand-delivered or messenger-delivered paper filings for the Commission's Secretary at 236 Massachusetts Avenue, NE., Suite 110, Washington, DC 20002. All filings must be addressed to the Commission's Secretary at Office of the Secretary, Federal Communications Commission.

• People with Disabilities: Contact the Commission to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Paul Locke, Policy Division, International Bureau at (202) 418-0765. For additional information concerning the information collection(s) contained in this document, contact Judith B. Herman at 202-418-0214, or via the Internet at Judith-B.Herman@fcc.gov.

SUPPLEMENTARY INFORMATION: This is a summary of the Commission's Notice of Proposed Rulemaking (NPRM) in IB Docket No. 07-101, FCC 07-86, adopted May 9, 2007 and released on May 15, 2007. The full text of the NPRM is available for public inspection and copying during regular business hours at the Commission's Reference Information Center, Portals II, 445 12th Street, SW., Room CY-A257, Washington, DC 20554. The document also may be purchased from the Commission's duplicating contractor, Best Copy and Printing, Inc., Portals II, 445 12th Street, SW., Room CY-B402, Washington, DC 20554, telephone 202-488-5300, facsimile 202-488-5563, or via e-mail FCC@BCPIWEB.com.

Pursuant to the Regulatory Flexibility Act, the Commission has prepared an Initial Regulatory Flexibility Analysis (IRFA) of the possible significant economic impact on small entities by the proposals considered in the NPRM. The text of the IRFA is set forth in Appendix C of the NPRM. Written public comments are requested on this IRFA. Comments must be filed in accordance with the same filing deadlines for comments on the NPRM, and they should have a separate and distinct heading designating them as responses to the IRFA.

In addition, the Commission, as part of its continuing effort to reduce paperwork burdens, invites the general public and the Office of Management and Budget (OMB) to comment on the information collection requirements contained in this document, as required by the Paperwork Reduction Act of 1995, Public Law 104-13. Public and agency comments are due September 17, 2007. Comments should address: (a) Whether the proposed collection of information is necessary for the proper performance of the functions of the Commission, including whether the information shall have practical utility; (b) the accuracy of the Commission's burden estimates; (c) ways to enhance information collected; and (d) ways to minimize the burden of the collection of information on the respondents, including the use of automated collection techniques or other forms of information technology. In addition, pursuant to the Small Business Paperwork Relief Act of 2002, Public Law 107-198, see 44 U.S.C. 3506(c)(4), we seek specific comment on how we might “further reduce the information collection burden for small business concerns with fewer than 25 employees.”

Paperwork Reduction Act Requirements

OMB Control Number: 3060-XXXX.

Title: Vehicle-Mounted Earth Stations (VMES).

Form No.: Not applicable.

Type of Review: New Collection.

Respondents: Businesses or other for-profit entities.

Number of Respondents: 15 respondents; 15 responses.

Estimated Time per Response: 2 hours (average).

Frequency of Response: Recordkeeping requirement, third party disclosure requirement, and on occasion and one-time reporting requirements.

Obligation to Respond: Required to obtain or retain benefits.

Estimated Total Annual Burden: 240 hours.

Estimated Total Annual Cost: $15,000.

Privacy Act Impact Assessment: No.

Nature and Extent of Confidentiality: The Commission does not provide assurances of confidentiality to entities submitting their filings and applications. However, entities may request confidential treatment of their applications and filings under 47 CFR 0.459 of the Commission's rules. With regard to certifications filed pursuant to part 2 of the Commission's rules, parties receive minimal exemption from the Freedom of Information Act (FOIA).

Needs and Uses: The purpose of this new information collection is to address the Paperwork Reduction Act (PRA) requirements proposed in the Commission's NPRM (FCC 07-86) to establish rules for the licensing of the VMES service. In the NPRM, the Commission proposes new information collection requirements applicable to potential VMES licensees. The Commission proposes that potential VMES operators submit applications (FCC Form 312) and exhibits thereto to the Commission to demonstrate that they comply with the Commission's legal and/or engineering rules. (Note: FCC Form 312 is approved by the Office of Management and Budget under OMB Control Number 3060-0678. There are additional and ongoing rulemakings that may require modification to FCC Form 312. Because the Commission intends to modify FCC Form 312 only after all the applicable rulemakings have been completed, there may be a period of time during which FCC Form 312 may not be altered to accommodate potential VMES applications. In the interim, potential VMES applicants would utilize FCC Form 312 and submit attachments providing the relevant information and certifications reflected any adopted rules). Additionally, the Commission proposes to apply data logging requirements, requiring network operators to maintain information on the satellites that each terminal uses, the operating frequencies and bandwidths used, the time of day, the location, and a point of contract within the United States with the authority and capability to mute the potential VMES transmitters. The potential VMES operator must maintain the information for a year and make it available to appropriate entities within 24 hours of request. The Commission also seeks comment on requiring an automatic transmitter identification systems (ATIS) for each satellite uplink transmission. Without the information collected through the Commission's proposed VMES licensing procedures, it may not be feasible to identify sources of harmful interference and to ensure, if needed, that the interfering transmissions are ceased.

Summary of Notice of Proposed Rulemaking

A. Background

With the NPRM, the Federal Communications Commission (Commission) seeks comment on whether to license VMES as an application of the FSS in the conventional and extended Ku-band frequencies.

In its petition for rulemaking (Petition), General Dynamics asks the Commission to amend parts 2 and 25 of the rules to allocate spectrum for use with VMES in the FSS in the Ku-band uplink at 14.0-14.5 GHz and Ku-band downlink at 11.7-12.2 GHz on a primary basis, and in the extended Ku-band downlink at 10.95-11.2 GHz and 11.45-11.7 GHz on a non-protected basis, and to adopt Ku-band VMES licensing and service rules modeled on the Commission's rules for Ku-band ESVs.

As the Petition urges, the NPRM seeks comment on the proposed adoption of a co-primary allocation for VMES applications in the conventional Ku-band frequencies, and also seeks comment on service rules for VMES, possibly modeled on the current ESV rules. The NPRM discusses and seeks comment on rules and procedures to license VMES networks for operation only over GSO FSS satellites in the Ku-band.

Earth stations on mobile land vehicles currently operate as Land Mobile Satellite Service (LMSS) applications, and not as FSS applications, in the conventional Ku-band. In the Ku-band uplinks, LMSS operates on a secondary, and not a primary, basis. A primary allocation for VMES would provide protection from interference to VMES terminals as well as give VMES equal status in coordinating emissions from VMES terminals with adjacent FSS systems, as if VMES terminals were FSS earth stations.

Certain commenters on the Petition propose to promote VMES terminals that use smaller antennas and less accurate antenna pointing systems than those that General Dynamics currently uses for the VMES system it has been operating since November 2004 pursuant to special temporary authority and experimental authority. We have concerns that some classes of proposed VMES terminals would not operate compatibly in the Commission's Ku-band two-degree satellite spacing environment for the FSS. The NPRM seeks comment on how to differentiate compatible and non-compatible VMES terminals. In addition, we invite comment on whether we should treat applications that may not be able to meet the VMES requirements that we would adopt, but that otherwise might be able to engineer their systems to meet Ku-band FSS interference avoidance requirements, as applications for LMSS systems that might be licensed under the existing secondary LMSS allocation in the 14.0-14.5 GHz FSS uplink band and as non-conforming in the 11.7-12.2 GHz downlink band, with specific license conditions to protect FSS licensees and their customers from harmful interference.

We also seek comment on licensing and service rules for VMES terminals if they are granted primary allocation status.

B. Allocation Issues

In asking for comment on whether we should grant primary status to VMES, or classes of VMES, in the conventional Ku-band, we observe that VMES, like ESV, is a mobile system, but with significant differences. We seek comment on these differences in the context of evaluating whether VMES, or classes of VMES, can operate compatibly in the FSS two-degree spacing environment. The significant identified differences include:

Antenna Size. The Petition suggests that, although General Dynamics proposes to provide VMES for U.S. military applications, there will be commercial applications for this technology. Commenters suggest that the Commission should develop rules that would permit large-scale deployment of mobile broadband systems to the public using ultra-small antennas. Both military and commercial VMES applications would use antennas smaller than those typically found on VSATs or ESVs. The original two-degree FSS VSAT interference rules were predicated on the use of antennas with a diameter of 1.2 meters or greater (i.e., 3.9 feet or larger), operating from fixed locations. ESVs typically use antennas with a diameter on the order of 1.2 meters. General Dynamics currently is using antennas as small as 0.45 meters (17.7 inches) and supporters of the commercial applications of VMES are in favor of licensing even smaller antennas. The ultra-small antennas operating in a mobile environment envisioned for large-scale commercial deployment of VMES have a greater potential of causing interference to adjacent satellites than the antennas currently authorized for the band and would lack the interference rejection qualities of the larger antennas.

Antenna Tracking Systems. ESV operators are required to use antenna systems that accurately track the wanted satellite as the ship moves, pitches and rolls. General Dynamics uses very precise, and very expensive, tracking systems for its military VMES antennas. Some proponents of commercial applications would lower the pointing accuracy requirements for VMES, resulting in lower-cost tracking systems and, potentially, increasing the level of interference to other FSS satellites.

Ubiquity. ESVs are likely to be used only by relatively large vessels, capable of carrying the large ESV dishes, and are geographically limited to operating on waterways and in port. VMESs have been placed on vehicles capable of off-road travel and would have access to practically all of the United States.

Tracking Accuracy. Because of the size of the vessels on which ESVs are mounted, ESVs undergo smaller accelerations than earth stations on mobile land vehicles, making it easier for the ESV antenna tracking system to track the wanted satellite. In fact, General Dynamics concedes that it is impossible to construct a VMES antenna tracking system that will meet the 0.2 degree antenna pointing requirement under all possible conditions.

Quantity. If applications of VMES are permitted for use by the general public, the number of VMES terminals that potentially could be operated is significantly larger than the number of ESV systems.

We seek comment on the relevance of these differences between VMESs and ESVs to the question of whether we should grant primary status for VMES as an application of the FSS. Additionally, we ask commenters to consider other factors, not listed, that may be relevant.

We discuss each Ku-band separately.

11.7-12.2 GHz Band. We seek comment on whether to establish a new non-Federal footnote for the 11.7-12.2 GHz downlink band to reflect that VMES terminals may operate with FSS space stations. Currently, in this band, there is no allocation in the U.S. Table of Frequency Allocations for the Mobile Satellite Service (MSS), including LMSS, and domestic downlink signals operate under ITU Radio Regulation 4.4 (non-interference and non-protection) in the band.

10.95-11.2 GHz and 11.45-11.7 GHz Bands. We seek comment on whether VMES operations in these extended Ku-bands should be permitted on a non-protected basis with respect the Fixed Service (FS). The FS uses these bands and ESV operators, for example, must accept interference from all current and future FS operations in the bands. Because VMES downlink operations would not interfere with current or future FS operations, and because VMESs would not receive protection from the FS in these bands, we would propose to make the determination that VMESs operating domestically in these bands would not be likely to interfere with or restrict other authorized operations in the bands.

14.0-14.2 GHz Band. Space research services (SRS) are allocated to this band on a secondary basis. We recognize the importance of protecting these facilities from receiving harmful interference. We seek comment on the feasibility of allowing VMES operations within a 125 kilometer protection zone around operational National Aeronautics and Space Administration (NASA) space research Tracking and Data Relay Satellite Systems (TDRSS) facilities. We propose, as a condition of the VMES license, to prohibit VMES operators from operating in the band within 125 kilometers of the two existing TDRSS sites. We solicit comment on whether we should allow VMES operators to coordinate their proposed operations to resolve any potential harmful interference concerns regarding SRS facilities. VMES operators would need to complete coordination prior to operating within 125 kilometers of the two existing TDRSS sites. Should NASA seek to provide similar protection to future TDRSS sites, the National Telecommunications and Information Administration (NTIA) should notify the Commission's International Bureau (Bureau) that a TDRSS site is nearing operational status. The Bureau then would issue a notice requiring all Ku-band VMES operators to cease operations in the band within 125 kilometers of the new site until they had coordinated with the new site. We solicit comment on which technical measures should be incorporated into VMES terminals to assist operators in meeting any coordination obligations. We seek comment on how the coordination process should work and whether VMES licensees should go directly to NASA or work through the Commission. We would expect the coordination to be conducted on an equal basis between NASA and the VMES operator, even though the SRS is a secondary allocation.

14.2-14.4 GHz Band. We seek comment on whether to allow VMES operations to communicate with FSS space stations in the band. The band is an exclusive non-Federal band allocated on a primary basis to FSS for uplink operations and on a secondary basis to the MSS.

14.4-14.5 GHz Band. We seek comment on the feasibility of coordination between VMES and Radio Astronomy Service (RAS) sites to preclude harmful interference to the RAS as observations are performed. Specifically, we seek comment on adopting license conditions that would require VMES licensees planning to travel in the vicinity of certain radio observatories to coordinate their proposed operations to resolve any potential interference concerns. We seek comment on how the coordination process would work and whether VMES licensees should go directly to the National Science Foundation (NSF) or work through the Commission. Additionally, we seek comment on technical measures to be incorporated into terminals to assist with coordination and ask whether unwanted emissions from VMES terminals need to be regulated to protect RAS stations.

Proposed Footnotes to U.S. Table of Frequency Allocations. We propose to add the following footnotes to the U.S. Table of Frequency Allocations set out in 47 CFR 2.106:

NGxxx In the bands 10.95-11.2 GHz and 11.45-11.7 GHz (space-to-Earth), Vehicle-Mounted Earth Stations (VMES) as regulated under 47 CFR part 25 may be authorized to communicate with space stations of the fixed-satellite service but must accept interference from stations of the fixed service operating in accordance with the Commission's Rules.

NGyyy In the bands 11.7-12.2 GHz (space-to-Earth) and 14.0-14.5 GHz (Earth-to-space), Vehicle-Mounted Earth Stations (VMES) as regulated under 47 CFR part 25 are an application of the fixed-satellite service and may be authorized to communicate with space stations of the fixed-satellite service on a primary basis.

We seek comment on the proposed footnotes.

C. Technical and Operational Issues

ESV Rules as Possible Model for VMES. We seek comment on whether, given the significant differences between ESVs and VMES, the ESV rules, as applied to VMES, would provide sufficient protection to the FSS. We seek comment on applying 47 CFR 25.222 and related rules to VMES terminals communicating with FSS networks. The use of ultra-small antennas proposed by some commenters implies the use of FSS earth stations with broad beam widths and reduced side-lobe isolation that, in turn, raises the potential for increased interference power being received by other FSS satellites. We seek comment on whether VMES systems are sufficiently similar in operation to ESV systems to support adoption of the ESV rules to VMES without weakening the Commission's two-degree satellite spacing environment.

We ask whether it is reasonable to structure service rules for VMES that use an EIRP-density envelope that is lower than that used for VSATs and ESVs. For example, would a rule requiring a one-dB reduction in the EIRP-density envelope, or a certification from adjacent satellite operators, be reasonable for VMES applications? Is there a reason to use a larger or smaller reduction than one db in EIRP-density to protect FSS neighboring satellites?

Proposed Deviations from ESV Rules. We also seek comment on VMES service rules that certain commenters on the Petition suggest should deviate from the ESV model. For example, we ask if adopting a “fraction of the antenna beam width” approach, proposed by some commenters, seems reasonable and, if so, how we should determine the fraction that would apply. Should adoption of this approach be limited to peak EIRP-densities from a single terminal or to the aggregate emissions from multiple, co-frequency terminals and, if so, what should that value be? We seek technical descriptions and typical link-budgets from commenters, to indicate the types of modulation and random access techniques, and the types and quality of services, that might be expected to be supplied by very low-gain, broad-beam antennas. We also seek technical comment on antenna technologies that would protect adjacent satellites without the need for stringent antenna pointing accuracies.

In response to suggested revisions to the ESV power-density rules, as applied to VMES, to accommodate VMES networks using aggregate system power control, we seek comment on the desirability of adopting rules for variable data rates, and thus variable power-density, spread-spectrum VMES systems. Should the Commission change the 10*log(N) rule, as applied to VMES? Commenters should address the specific changes to the rules that would be required to allow the efficient use of variable power-density spread-spectrum systems while still ensuring that the systems meet the EIRP-density envelope in the aggregate.

We propose to await the results of an ongoing proceeding streamlining the part 25 rules rather than seek additional comment in this proceeding on the use of contention tables, as proposed by commenters.

Data Logging Requirements. We seek comment on General Dynamics' proposal that we not apply the ESV data logging requirements to VMES. We seek comment on how, if at all, the use of VMES terminals in the Ku-band might suggest a different approach from the data logging rule applied to ESV terminals in the Ku-bands.

Threshold Antenna Size Downlink Protections. We seek comment on a commenter's proposal to amend 47 CFR 25.209 to set a threshold antenna size, in the 11.7-12.2 GHz downlink band, above which a VMES allocation would be primary and receive appropriate interference protection and below which it would be secondary and thus less protected. What would be an appropriate threshold size and how would this threshold requirement compare with the existing requirement in 47 CFR 25.209?

Power Densities in Directions Other than the GSO Plane. We seek comment on adopting, for VMES antennas as we did for ESVs operating in the conventional Ku-band, a three-degree starting angle for the EIRP envelope in all directions other than along the Geo-stationary Orbit (GSO). We ask whether we should modify the current ESV non-GSO plane EIRP-density envelopes to accommodate small VMES antennas. We seek comment on the potential for interference to and from possible NGSO FSS systems as well as the possible trade-offs between relaxing off-axis EIRP-density limits in directions away from the GSO plane, and the types, sizes and costs of antenna technology under existing versus related power-density limits.

Radiation Hazard Requirements. We ask commenters to describe what radiation hazards concerns may exist and what steps might be taken to resolve any potential concerns. We ask for comment on how exposure concerns and necessary rules for military applications, such as those proposed by General Dynamics, may differ from VMES use as a general commercial application. We seek comment on whether to require cautionary labeling for all VMES terminals and whether we should recommend professional installation for subscriber transceiver antennas.

Equipment Certification. We would propose to certify VMES terminals pursuant to our part 2 rules to ensure that they comply with the technical rules adopted for the service. We seek comment on this and other procedures that commenters may consider warranted, asking commenters to explain why other procedures would serve the public interest better than certification.

Limitations on the Use of VMES. We seek comment on our concern that the aggregation of emissions from ultra-small terminals may increase the risk of harmful interference to other FSS users, including adjacent satellites farther than six degrees from the target satellite. We seek comment on whether the use of ultra-small antennas potentially could expose FSS satellites farther away from the target satellite to the same or higher level of interference power than satellites directly adjacent to the target satellite and, if this scenario is likely, whether we should adopt rules designed to prevent such potential interference concerns. Should we propose an EIRP-density envelope that is different from the envelope for ESVs? Should a different EIRP envelope apply if VMES pointing restrictions are based on some fraction of the antenna beam width? Are there other methods by which we might ensure that VMES use of the 14.0-14.5 GHz band would not cause harmful interference to adjacent FSS satellites, including those farther than six degrees from the target satellite? For example, should we propose to limit the use of VMES only to commercial contracts for government uses? Finally, should the Commission apply an automatic transmitter identification system (ATIS) to VMES terminals? ATIS transmits encoded subcarrier messages that assist with identifying a source of interference. Which characteristics of the signal should be identified?

Blanket Licensing. We would propose to require that an applicant provide a point of contact for maintaining information about the frequencies that each individual vehicle uses and then to issue a blanket authorization for an applicant's system of VMES terminals. In addition, we seek comment on whether to provide for the licensing of individual earth stations, using the same technical criteria applied to antennas in a blanket-licensed VMES network. We ask for comment on specific rule revisions and modifications to FCC Form 312 to accommodate applications for VMES systems.

ALSAT Authority. We seek comment on whether we should authorize Ku-band VMES operators to operate with any U.S.-license satellite and non-U.S. satellites on the Permitted Space Station List using the parameters consistent with earth stations, or whether we instead should limit VMES access only to individual satellites. We would propose that ALSAT authority not be available to those VMES applicants that must coordinate with adjacent satellite operators, especially if the VMES terminals exceed the proposed off-axis EIRP-density requirements.

License Terms. We seek comment on licensing VMES operations for a term of fifteen years, similar to the license terms for other licensed networks of earth stations.

Ex Parte Presentations

This proceeding shall be treated as a “permit-but-disclose” proceeding in accordance with the Commission's ex parte rules. Persons making oral ex parte presentations are reminded that memoranda summarizing the presentations must contain summaries of the substance of the presentations and not merely a listing of the subjects discussed. More than a one or two sentence description of the views and arguments presented is generally required. Other rules pertaining to oral and written presentations are set forth in § 1.1206(b) of the Commission's rules as well.

Paperwork Reduction Act

The NPRM contains proposed new and modified information collection(s). The Commission, as part of its continuing effort to reduce paperwork burdens, invites the general public and the Office of Management and Budget (OMB) to comment on the information collection(s) contained in the NPRM, as required by the Paperwork Reduction Act of 1995, Public Law No. 104-13. Public and agency comments are due September 17, 2007. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law No. 107-198, see 44 U.S.C. 3506(c)(4), we seek specific comment on how we might “further reduce the information collection burden for small business concerns with fewer than 25 employees.”

A copy of any comments on the information collections contained herein should be submitted to Judy Boley Herman, Federal Communications Commission, Room 1-B441, 445 12th Street, SW., Washington, DC 20554, or via the Internet to Judith-B.Herman@fcc.gov, and to Jasmeet Seehra, OMB Desk Officer, Room 10236 NEOB, 725 17th Street, NW., Washington, DC 20503, via the Internet to Jasmeet_K._Seehra@omb.eop.gov, or via fax at 202-395-5167.

Initial Regulatory Flexibility Analysis

As required by the Regulatory Flexibility Act of 1980, as amended (RFA), the Commission has prepared this present Initial Regulatory Flexibility Analysis (IRFA) of the possible significant economic impact on a substantial number of small entities by the policies and rules proposed in this Amendment of Parts 2 and 25 of the Commission's Rules to Allocate Spectrum and Adopt Service Rules and Procedures to Govern the Use of Vehicle-Mounted Earth Stations in Certain Frequency Bands Allocated to the Fixed Satellite Service, Notice of Proposed Rulemaking. Written public comments are requested on this IRFA. Comments must be identified as responses to the IRFA and must be filed by the deadlines for comments on the NPRM provided in paragraph 88 of the NPRM. The Commission will send a copy of the NPRM, including this IRFA, to the Chief Counsel for Advocacy of the Small Business Administration (SBA). In addition, the NPRM and IRFA (or summaries thereof) will be published in the Federal Register.

A. Need for, and Objectives of, the Proposed Rules

In the NPRM the Commission makes proposals and seeks information on measures to provide a level of regulatory certainty to government, space research, radio astronomy, and fixed satellite service operators regarding operations of Vehicle-Mounted Earth Stations (VMES). As discussed in greater detail below, the Commission seeks comment on rules and procedures to license VMES for operation in the Ku-band similar to the Commission's current licensing rules for Earth Stations on Vessels (ESVs) that operate in the Ku-band, with appropriate modifications. The record established in the proceeding will allow the Commission to determine the effect of authorizing VMES terminals and will facilitate the development of any future rules for VMES. Any future rules would be designed to support the deployment of VMES terminals to the benefit of the American public without adversely affecting the operation and continued growth of incumbent radio services. In this regard, the objective is to create a licensing program that ensures incumbent radio services protection against harmful interference.

B. Legal Basis

The NPRM is adopted pursuant to sections 1, 4(i), 4(j), 7(a), 301, 303(c), 303(f), 303(g), 303(r), 303(y), and 308 of the Communications Act of 1934, as amended, 47 U.S.C. sections 151, 154(i), 154(j), 157(a), 301, 303(c), 303(f), 303(g), 303(r), 303(y), 308.

C. Description and Estimate of the Number of Small Entities to Which the Proposals Will Apply

The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one that: (1) Is independently owned and operated; (2) is not dominant in its field of operation; and (3) satisfies any additional criteria established by the SBA. Below, we further describe and estimate the number of small entity licensees that may be affected by the adopted rules.

Satellite Telecommunications. The SBA has developed a small business size standard for Satellite Telecommunications Carriers. This category “comprises establishments primarily engaged in providing point-to-point telecommunications services to other establishments in the telecommunications and broadcasting industries by forwarding and receiving communications signals via a system of satellites or reselling satellite telecommunications.” According to Census Bureau data for 2002, there were 371 firms in the category that operated for the entire year. Of this total, 307 firms had annual receipts of under $10 million, 26 firms had annual receipts of $10 million to $24,999,990, and 38 firms had annual receipts of $25 million or more. Thus, under this size standard, the majority of firms can be considered small.

A second category for international service providers, called “Other Telecommunications,” “comprises establishments primarily engaged in (1) providing specialized telecommunications applications, such as satellite tracking, communications telemetry, and radar station operations; or (2) providing satellite terminal stations and associated facilities operationally connected with one or more terrestrial communications systems and capable of transmitting telecommunications to or receiving telecommunications from satellite systems.” For this category, Census Bureau data for 2002 show that there were a total of 332 firms that operated for the entire year. Of this total, 303 firms had annual receipts of under $10 million, 15 firms had annual receipts of $10 million to $24,999,999, and 14 firms had annual receipts of $25 million or more. Consequently, we estimate that the majority of Other Telecommunications firms are small entities that might be affected by our action.

Space Stations (Geostationary). Commission records reveal that there are approximately 15 space station licensees authorized for use in the Ku-band. We do not request nor collect annual revenue information, and thus are unable to estimate of the number of geostationary space stations that would constitute a small business under the SBA definition cited above, or apply any rules providing special consideration for Space Station (Geostationary) licensees that are small businesses.

Fixed Satellite Transmit/Receive Earth Stations. Currently there are approximately 2,532 operational fixed-satellite transmit/receive earth stations authorized for use in the Ku-band. The Commission does not request or collect annual revenue information, and thus is unable to estimate the number of earth stations that would constitute a small business under the SBA definition.

Cellular Licensees. The SBA has developed a small business size standard for wireless firms within the two broad economic census categories of “Paging” and “Cellular and Other Wireless Telecommunications.” Under both categories, the SBA deems a wireless business to be small if it has 1,500 or fewer employees. For the census category of Paging, Census Bureau data for 2002 show that there were 807 firms in this category that operated for the entire year. Of this total, 804 firms had employment of 999 or fewer employees, and three firms had employment of 1,000 employees or more. Thus, under this category and associated small business size standard, the majority of firms can be considered small. For the census category of Cellular and Other Wireless Telecommunications, Census Bureau data for 2002 show that there were 1,397 firms in this category that operated for the entire year. Of this total, 1,378 firms had employment of 999 or fewer employees, and 19 firms had employment of 1,000 employees or more. Thus, under this second category and size standard, the majority of firms can, again, be considered small.

D. Description of Projected Reporting, Recordkeeping, and Other Compliance Requirements

The NPRM seeks comment on whether to expand the applicability of the current ESV rules to VMES. The proposed VMES rules, if adopted, would require satellite telecommunications operators to establish a database for tracking the location of VMES remote earth stations. This database would assist investigations of interference claims. The NPRM seeks comment on this proposal, including the effectiveness and utility of the proposal, and seeks comment regarding possible alternatives. The proposed rules, if adopted, also would require VMES operators to name a point of contact to maintain information about location and frequencies used by VMES terminals. Such information would assist in investigating interference claims. The Commission does not expect significant costs associated with these proposals, if adopted. Therefore, we do not anticipate that the burden of compliance would be greater for smaller entities.

The NPRM seeks comment on possible methods for coordinating VMES operations with space research service and radio astronomy operations.

E. Steps Taken to Minimize Significant Economic Impact on Small Entities, and Significant Alternatives Considered

The RFA requires that, to the extent consistent with the objectives of applicable statutes, the analysis shall discuss significant alternatives such as: (1) The establishment of differing compliance or reporting requirements or timetables that take into account the resources available to small entities; (2) the clarification, consolidation, or simplification of compliance and reporting requirements under the rule for small entities; (3) the use of performance, rather than design, standards; and (4) an exemption from coverage or the rule, or any part thereof, for small entities.

This NPRM solicits comment on alternatives for more efficient processing of VMES applications and simplification of VMES procedures, for example, by migrating from non-conforming use licensing to a licensing method that would provide for licenses with terms of fifteen years. The NPRM also seeks comment on streamlining the application process for VMES operations by permitting blanket licensing of multiple VMES terminals in a single application, as an alternative to requiring all VMES terminals to be licensed individually. Adoption of some of these proposals would simplify the application process for VMES and establish licensing terms consistent with other satellite-based services, such as ESV. Thus, adoption of the proposed rules should reduce the costs associated with obtaining and maintaining authority to operate a VMES network.

F. Federal Rules That May Duplicate, Overlap, or Conflict With the Proposed Rules

None.

Comment Filing Procedures

Pursuant to §§ 1.415 and 1.419 of the Commission's rules, 47 CFR 1.415, 1.419, interested parties may file comments in response to this NPRM no later than on or before August 17, 2007. Reply comments to these comments may be filed no later than on or before September 4, 2007. All pleadings are to reference IB Docket No. 07-101. Comments may be filed using the Commission's Electronic Comment Filing System (ECFS) or by filing paper copies. Parties are strongly encouraged to file electronically. See Electronic Filing of Documents in Rulemaking Proceedings, 63 FR 24121, May 1, 1998.

Comments filed through the ECFS can be sent as an electronic file via the Internet to http://www.fcc.gov/cgb/ecfs/. Parties should transmit one copy of their comments to the docket in the caption of this rulemaking. In completing the transmittal screen, commenters should include their full name, U.S. Postal Service mailing address, and the applicable docket or rulemaking number. Parties may also submit an electronic comment by Internet e-mail. To get filing instructions for e-mail comments, commenters should send an e-mail to ecfs@fcc.gov and should include the following words in the body of the message, “get form <your e-mail address>.” A sample form and directions will be sent in reply.

Parties choosing to file by paper must file an original and four copies of each filing in IB Docket No. 07-101. Filings can be sent by hand or messenger delivery, by commercial overnight courier, or by first-class overnight U.S. Postal Service mail (although we continue to experience delays in receiving U.S. Postal Service mail). If more than one docket or rulemaking number appears in the caption of this proceeding, commenters must submit two additional copies for each additional docket or rulemaking number. The Commission's mail contractor, Vistronix, Inc. will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

Comments submitted on diskette should be on a 3.5 inch diskette formatted in an IBM-compatible format using Word for Windows or compatible software. The diskette should be clearly labeled with the commenter's name, proceeding (including the docket number, in this case, IB Docket No. 07-101), type of pleading (comment or reply comment), date of submission, and the name of the electronic file on the diskette. The label should also include the following phrase “Disk Copy—Not an Original.” Each diskette should contain only one party's pleadings, preferably in a single electronic file.

All parties must file one copy of each pleading electronically or by paper to each of the following: (1) The Commission's duplicating contractor, Best Copy and Printing, Inc., 445 12th Street, SW., Room CY-B402, Washington, DC 20554, telephone (202) 488-5300, facsimile (202) 488-5563, or via e-mail at FCC@BCPIWEB.COM; (2) Howard Griboff, International Bureau, 445 12th Street, SW., Washington, DC 20554, e-mail Howard.Griboff@fcc.gov; (3) Paul Locke, International Bureau, 445 12th Street, SW., Washington, DC 20554, e-mail Paul.Locke@fcc.gov; (4) Kathleen Collins, International Bureau, 445 12th Street, SW., Washington, DC 20554, e-mail Kathleen.Collins@fcc.gov.

Comments and reply comments and any other filed documents in this matter may be obtained from Best Copy and Printing, Inc., in person at 445 12th Street, SW., Room CY-B402, Washington, DC 20554, via telephone at (202) 488-5300, via facsimile (202) 488-5563, or via e-mail at FCC@BCPIWEB.COM. The pleadings also will be available for public inspection and copying during regular business hours in the FCC Reference Information Center, Room CY-A257, 445 Twelfth Street, SW., Washington, DC 20554 and through the ECFS, accessible on the Commission's World Wide Web site, http://www.fcc.gov.

Comments and reply comments must include a short and concise summary of the substantive arguments raised in the pleading. Comments and reply comments also must comply with § 1.49 and all other applicable sections of the Commission's rules. All parties are encouraged to utilize a table of contents, and to include the name of the filing party and the date of the filing on each page of their submission. We also strongly encourage that parties track the organization set forth in this NPRM in order to facilitate our internal review process.

Commenters who file information that they believe is proprietary may request confidential treatment pursuant to § 0.459 of the Commission's rules. Commenters should file both their original comments for which they request confidentiality and redacted comments, along with their request for confidential treatment. Commenters should not file proprietary information electronically. See Examination of Current Policy Concerning the Treatment of Confidential Information Submitted to the Commission, Report and Order, 13 FCC Rcd 24816 (1998), Order on Reconsideration, FCC 99-262, 14 FCC Rcd 20128 (1999). Even if the Commission grants confidential treatment, information that does not fall within a specific exemption pursuant to the Freedom of Information Act (FOIA) must be publicly disclosed pursuant to an appropriate request. See 47 CFR 0.461; 5 U.S.C. 552. We note that the Commission may grant requests for confidential treatment either conditionally or unconditionally. As such, we note that the Commission has the discretion to release information on public interest grounds that does fall within the scope of an FOIA exemption.

Accordingly, it is ordered that, pursuant to the authority contained in sections 1, 4(i), 4(j), 7(a), 301, 303(c), 303(f), 303(g), 303(r), 303(y), and 308 of the Communications Act of 1934, as amended, 47 U.S.C. 151, 154(i), 154(j), 157(a), 301, 303(c), 303(f), 303(g), 303(r), 303(y), 308, this Notice of Proposed Rulemaking is adopted.

It is further ordered that the Commission's Consumer and Governmental Affairs Bureau, Reference Information Center shall send a copy of this Notice of Proposed Rulemaking, including the initial regulatory flexibility analysis, to the Chief Counsel for Advocacy of the Small Business Administration, in accordance with section 603(a) of the Regulatory Flexibility Act, 5 U.S.C. 601, et seq. (1981).

List of Subjects in 47 CFR Parts 2 and 25

Telecommunications, Satellites.

Federal Communications Commission.
Marlene H. Dortch,
Secretary.

Proposed Rules

For the reasons discussed in the preamble, the Federal Communications Commission proposes to amend 47 CFR parts 2 and 25 to read as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Amend § 2.106 as follows:

a. Revise pages 45, 46 and 47 of the Table.

b. In the list of Non-Federal Government footnotes, add footnotes NGxxx and NGyyy in numerical order.

The revisions and additions read as follows:

§ 2.106 Table of Frequency Allocations.

* * * * *

BILLING CODE 6212-01-P

BILLING CODE 6712-01-C

* * * * *

NON-FEDERAL GOVERNMENT (NG) FOOTNOTES

* * * * *

NGxxx In the bands 10.95-11.2 GHz and 11.45-11.7 GHz (space-to-Earth), Vehicle-Mounted Earth Stations (VMES) as regulated under 47 CFR part 25 may be authorized to communicate with space stations of the fixed-satellite service but must accept interference from stations of the fixed service operating in accordance with the Commission's rules.

NGyyy In the bands 11.7-12.2 GHz (space-to-Earth) and 14.0-14.5 GHz (Earth-to-space), Vehicle-Mounted Earth Stations (VMES) as regulated under 47 CFR part 25 are an application of the fixed-satellite service and may be authorized to communicate with space stations of the fixed-satellite service on a primary basis.

* * * * *

PART 25—SATELLITE COMMUNICATIONS

3. The authority citation for part 25 continues to read as follows:

Authority: 47 U.S.C. 701-744. Interprets or applies Sections 4, 301, 302, 303, 307, 309 and 332 of the Communications Act, as amended, 47 U.S.C. Sections 154, 301, 302, 303, 307, 309, and 332, unless otherwise noted.

4. Amend § 25.115 by revising paragraph (a)(2)(iii) to read as follows:

§ 25.115 Application for earth station authorizations.

(a) * * *

(2) * * *

(iii) The earth station is not an ESV or a VMES.

* * * * *

5. Amend § 25.130 by revising the introductory text of paragraph (a) to read as follows:

§ 25.130 Filing requirements for transmitting earth stations.

(a) Applications for a new or modified transmitting earth station facility shall be submitted on FCC Form 312, and associated Schedule B, accompanied by any required exhibits, except for those earth station applications filed on FCC Form 312EZ pursuant to § 25.115(a). All such earth station license applications must be filed electronically through the International Bureau Filing System (IBFS) in accordance with the applicable provisions of part 1, subpart Y of this chapter. Additional filing requirements for Earth Stations on Vessels are described in §§ 25.221 and 25.222 of this part. Additional filing requirements for Vehicle-Mounted Earth Stations are described in § 25.XXX of this part. In addition, applicants not required to submit applications on Form 312EZ, other than ESV or VMES applicants, must submit the following information to be used as an “informative” in the public notice issued under § 25.151 as an attachment to their application:

* * * * *

6. Amend § 25.132 by revising paragraph (b)(3) to read as follows:

§ 25.132 Verification of earth station antenna performance standards.

(b) * * *

(3) Applicants seeking authority to use an antenna that does not meet the standards set forth in § 25.209(a) and (b), pursuant to the procedure set forth in § 25.220 or subject to rules in § 25.XXX, are required to submit a copy of the manufacturer's range test plots of the antenna gain patterns specified in paragraph (b)(1) of this section.

* * * * *

7. Amend § 25.201 by adding the definition of “Vehicle-Mounted Earth Station (VMES)” to read as follows:

§ 25.201 Definitions.

* * * * *

Vehicle-Mounted Earth Station (VMES). A VMES is an earth station, operating from a motorized vehicle that travels primarily on land, that receives from and transmits to fixed-satellite space stations and operates pursuant to the requirements set out in § 25.XXX of this part.

8. Amend § 25.202 by adding paragraph (a)(9) to read as follows:

§ 25.202 Frequencies, frequency tolerance and emission limitations.

(a) * * *

(9) The following frequencies are available for use by Vehicle-Mounted Earth Stations (VMESs):

10.95-11.2

GHz (space-to-Earth)

11.45-11.7

GHz (space-to-Earth)

11.7-12.2

GHz (space-to-Earth)

14.0-14.5

GHz (Earth-to-space)

VMESs shall be authorized as set forth in § 25.XXX of this chapter.

* * * * *

9. Amend § 25.203 by revising paragraphs (a), (b), the introductory text in paragraph (c) and paragraphs (d) and (k) to read as follows:

§ 25.203 Choice of sites and frequencies.

(a) Sites and frequencies for earth stations, other than ESVs or VMESs, operating in frequency bands shared with equal rights between terrestrial and space services, shall be selected, to the extent practicable, in areas where the surrounding terrain and existing frequency usage are such as to minimize the possibility of harmful interference between the sharing services.

(b) An applicant for an earth station authorization, other than an ESV or a VMES, in a frequency band shared with equal rights with terrestrial microwave services shall compute the great circle coordination distance contour(s) for the proposed station in accordance with the procedures set forth in § 25.251. The applicant shall submit with the application a map or maps drawn to appropriate scale and in a form suitable for reproduction indicating the location of the proposed station and these contours. These maps, together with the pertinent data on which the computation of these contours is based, including all relevant transmitting and/or receiving parameters of the proposed station that are necessary to assess the likelihood of interference, an appropriately scaled plot of the elevation of the local horizon as a function of azimuth, and the electrical characteristics of the earth station antenna(s), shall be submitted by the applicant in a single exhibit to the application. The coordination distance contour plot(s), horizon elevation plot, and antenna horizon gain plot(s) required by this section may also be submitted in tabular numerical format at 5° azimuthal increments instead of graphical format. At a minimum, this exhibit shall include the information listed in paragraph (c)(2) of this section. An earth station applicant shall also include in the application relevant technical details (both theoretical calculations and/or actual measurements) of any special techniques, such as the use of artificial site shielding, or operating procedures or restrictions at the proposed earth station which are to be employed to reduce the likelihood of interference, or of any particular characteristics of the earth station site which could have an effect on the calculation of the coordination distance.

(c) Prior to the filing of its application, an applicant for operation of an earth station, other than an ESV or a VMES, shall coordinate the proposed frequency usage with existing terrestrial users and with applicants for terrestrial station authorizations with previously filed applications in accordance with the following procedure:

* * * * *

(d) An applicant for operation of an earth station, other than an ESV or a VMES, shall also ascertain whether the great circle coordination distance contours and rain scatter coordination distance contours, computed for those values of parameters indicated in § 25.251 (Appendix 7 of the ITU RR) for international coordination, cross the boundaries of another Administration. In this case, the applicant shall furnish the Commission copies of these contours on maps drawn to appropriate scale for use by the Commission in effecting coordination of the proposed earth station with the Administration(s) affected.

* * * * *

(k) An applicant for operation of an earth station, other than an ESV or a VMES, that will operate with a geostationary satellite or non-geostationary satellite in a shared frequency band in which the non-geostationary system is (or is proposed to be) licensed for feeder links, shall demonstrate in its applications that its proposed earth station will not cause unacceptable interference to any other satellite network that is authorized to operate in the same frequency band, or certify that the operations of its earth station shall conform to established coordination agreements between the operator(s) of the space station(s) with which the earth station is to communicate and the operator(s) of any other space station licensed to use the band.

10. Amend § 25.204 by revising the introductory text for paragraph (a) and by adding paragraph (j) to read as follows:

§ 25.204 Power limits.

(a) In bands shared coequally with terrestrial radio communication services, the equivalent isotropically radiated power transmitted in any direction towards the horizon by an earth station, other than an ESV or a VMES, operating in frequency bands between 1 and 15 GHz, shall not exceed the following limits except as provided for in paragraph (c) of this section:

* * * * *

(j) Within 125 km of the Tracking and Data Relay System Satellite (TDRSS) sites identified in § 25.XXX(a)(11) of this chapter, VMES transmissions in the 14.0-14.2 GHz (Earth-to-space) band shall not exceed an EIRP spectral density towards the horizon of 12.5 dBW/MHz, and shall not exceed an EIRP towards the horizon of 16.3 dBW.

11. Amend § 25.205 by adding paragraph (c) to read as follows:

§ 25.205 Minimum angle of antenna elevation.

* * * * *

(c) VMESs making a special showing requesting angles of elevation less than 5° measured from the horizontal plane to the direction of maximum radiation pursuant to paragraph (a) of this section must still meet the EIRP and EIRP density towards the horizon limits contained in § 25.204(j) of this chapter.

12. Section 25.XXX is added to read as follows:

§ 25.XXX Blanket Licensing provisions for Vehicle-Mounted Earth Stations (VMESs) receiving in the 10.95-11.2 GHz (space-to-Earth), 11.45-11.7 GHz (space-to-Earth), 11.7-12.2 GHz (space-to-Earth) frequency bands and transmitting in the 14.0-14.5 GHz (Earth-to-space) frequency band, operating with Geostationary Satellites in the Fixed-Satellite Service.

(a) All applications for licenses for VMESs receiving in the 10.95-11.2 GHz (space-to-Earth), 11.45-11.7 GHz (space-to-Earth), and 11.7-12.2 GHz (space-to-Earth) frequency bands, and transmitting in the 14.0-14.5 GHz (Earth-to-space) frequency band, to geostationary satellites in the fixed-satellite service shall provide sufficient data to demonstrate that the VMES operations meet the following criteria, which are ongoing requirements that govern all VMES licensees and operations in these bands:

(1) The off-axis EIRP spectral density for co-polarized signals, emitted from the VMES in the plane of the geostationary satellite orbit as it appears at the particular earth station location (i.e., the plane determined by the focal point of the antenna and the line tangent to the arc of the geostationary satellite orbit at the position of the target satellite), shall not exceed the following values:

15−25log(θ) − 10*log(N) dBW/4kHz for 1.25° ≤ θ ≤ 7.0°

−6 − 10*log(N) dBW/4kHz for 7.0° < θ ≤ 9.2°

18−25log(θ) − 10*log(N) dBW/4kHz for 9.2° < θ ≤ 48°

−24 − 10*log(N) dBW/4kHz for 48° < θ ≤ 180°

where (θ) is the angle in degrees from the axis of the main lobe. For a VMES network using frequency division multiple access (FDMA) or time division multiple access (TDMA) technique, N is equal to one. For a VMES network using code division multiple access (CDMA) technique, N is the maximum number of co-frequency simultaneously transmitting earth stations in the same satellite receiving beam.

(2) In all other directions, the off-axis EIRP spectral density for co-polarized signals emitted from the VMES shall not exceed the following values:

18 − 25log(θ) − 10*log(N) dBW/4kHz for 1.25° ≤ θ ≤ 48.0°

−24−10*log(N) dBW/4kHz for 48.0° < θ ≤ 180°

where θ and N are defined as set forth in paragraph (a)(1) of this section.

(3) For θ >7.0°, the values given in paragraphs (a)(1) of this Section may be exceeded by no more than 10% of the sidelobes, provided no individual sidelobe exceeds the criteria given by more than 3 dB.

(4) In all directions, the off-axis EIRP spectral density for cross-polarized signals emitted from the VMES shall not exceed the following values:

5 − 25log(θ) − 10*log(N) dBW/4kHz for 1.8° ≤ θ ≤ 7.0°

−16 − 10*log(N) dBW/4kHz for 7.0° < θ ≤ 9.2°

where (θ) and N are defined as set forth in paragraph (a)(1) of this section.

(5) For non-circular VMES antennas, the major axis of the antenna will be aligned with the tangent to the geostationary satellite orbital arc at the target satellite point, to the extent required to meet specified off-axis EIRP criteria.

(6) A pointing error of less than 0.2°, between the orbital location of the target satellite and the axis of the main lobe of the VMES antenna.

(7) All emissions from the VMES shall automatically cease within 100 milliseconds if the angle between the orbital location of the target satellite and the axis of the main lobe of the VMES antenna exceeds 0.5°, and transmission will not resume until such angle is less than 0.2°.

(8) There shall be a point of contact in the United States, with phone number and address included with the application, available 24 hours a day, 7 days a week, with authority and ability to cease all emissions from the VMES.

(9) A VMES that exceeds the radiation guidelines of section 1.1310 of this chapter, Radiofrequency radiation exposure limits, must provide, with its environmental assessment, a plan for mitigation of radiation exposure to the extent required to meet those guidelines.

(10) A VMES receiving in the 10.95-11.2 GHz (space-to-Earth), 11.45-11.7 GHz (space-to-Earth), 11.7-12.2 GHz (space-to-Earth) frequency bands, and transmitting in the 14.0-14.5 GHz (Earth-to-space) frequency band shall operate with the following provisions:

(i) For each VMES transmitter a record of the vehicle location (i.e., latitude/longitude), transmit frequency, channel bandwidth, and satellite used shall be time annotated and maintained for a period of not less than one year. Records will be recorded at time intervals no greater than every 20 minutes while the VMES is transmitting. The VMES operator will make this data available upon request to a coordinator, fixed-satellite system operator, NTIA, or the Commission within 24 hours of the request.

(ii) VMES operators shall control all VMESs by a Hub earth station located in the United States.

(11) Operations of VMESs in the 14.0-14.2 GHz (Earth-to-space) frequency band within 125 km of the NASA TDRSS facilities on Guam (latitude 13°36′55″ N, longitude 144°51′22″ E) or White Sands, New Mexico (latitude 32°20′59″ N, longitude 106°36′31″ W and latitude 32°32′40″ N, longitude 106°36′48″ W) are subject to coordination with NASA. When NASA seeks to provide similar protection to future TDRSS sites that have been coordinated through the National Telecommunications and Information Administration (NTIA) Interdepartment Radio Advisory Committee (IRAC) Frequency Assignment Subcommittee process, NTIA will notify the Commission that the site is nearing operational status. Upon public notice from the Commission, all Ku-band VMES operators must cease operations in the 14.0-14.2 GHz band within 125 km of the new TDRSS site until they have coordinated with the new site. After coordination, VMES operations will then again be permitted to operate in the 14.0-14.2 GHz band within 125 km of the new TDRSS site, subject to any operational constraints developed in the coordination process.

(12) Operations of VMESs in the 14.47-14.5 GHz (Earth-to-space) frequency band within: 45 km of the radio observatory on St. Croix, Virgin Islands (latitude 17°46′ N, longitude 64°35′ W); 125 km of the radio observatory on Mauna Kea, Hawaii (latitude 19°48′ N, longitude 155°28′ W); 90 km of the Arecibo Observatory on Puerto Rico (latitude 18°20′46″ N, longitude 66°45′11″ W); and 160 km of the radio observatories listed in US203 as observing in the 14.47-14.5 GHz band are subject to coordination with the National Science Foundation (NSF).

(13) In the 10.95-11.2 GHz (space-to-Earth) and 11.45-11.7 GHz (space-to-Earth) frequency bands a VMES shall not claim protection from interference from any authorized terrestrial stations to which frequencies are either already assigned, or may be assigned in the future.

(14) VMES antennas licensed for reception of radio transmissions from space stations in the fixed-satellite service in the 10.95-11.2 GHz (space-to-Earth), 11.45-11.7 GHz (space-to-Earth) and 11.7-12.2 GHz (space-to-Earth) bands for which they have equal status with respect to other fixed-satellite service applications are protected from harmful interference caused by other space stations only to the degree to which an earth station employing an antenna conforming to the referenced patterns defined in § 25.209(a) and (b) of the rules is protected from radio interference.

(b) Applications for VMES operation in the 14.0-14.5 GHz (Earth-to-space) to geostationary satellites in the fixed-satellite service must include, in addition to the particulars of operation identified on Form 312 and associated Schedule B, the following data for each earth station antenna type:

(1)(i) A series of EIRP density charts or tables at the maximum EIRP density listed in Schedule B, calculated for a production earth station antenna, based on measurements taken on a calibrated antenna range at 14.25 GHz, with the off-axis EIRP envelope set forth in paragraphs (a)(1) through (a)(4) of this section, as follows:

(A) Showing off-axis co-polarized EIRP spectral density in the azimuth plane, at off-axis angles from minus 10° to plus 10° and from minus 180° to plus 180°.

(B) Showing off-axis co-polarized EIRP spectral density in the elevation plane, at off-axis angles from 0° to plus 30°.

(C) Showing off-axis cross-polarized EIRP spectral density in the azimuth plane, at off-axis angles from minus 10° to plus 10°.

(D) Showing off-axis cross-polarized EIRP spectral density in the elevation plane, at off-axis angles from minus 10° to plus 10°; or

(ii) A certification, in Schedule B, that the VMES antenna conforms to the gain pattern criteria of § 25.209(a) and (b), that, combined with the maximum input power density calculated from the EIRP density less the antenna gain, which is entered in Schedule B, demonstrates that the off-axis EIRP spectral density envelope set forth in paragraphs (a)(1) through (a)(4) of this section will be met.

(2) The Multiple Access technique being employed and the value of N.

(3) A certification from the antenna manufacturer countersigned by the applicant that the antenna complies with the requirements in paragraphs (a)(6) and (a)(7) of this section.

(4) The contact information pursuant to paragraph (a)(8) of this section.

(5) The mitigation plan pursuant to paragraph (a)(9) of this section.

(6) Indication of whether the VMES will operate in the regions indicated in paragraph (a)(11) or (a)(12) of this section.

(7) For the hub station, as required pursuant to paragraph (a)(10)(ii) of this section, the call sign for a previously authorized earth station, the call sign of a pending earth station application, or the technical information in Schedule B, pursuant to § 25.115, if the earth station is to be licensed concurrently with the VMES terminals. The call sign of hub station is to be listed in the remote control section of the Form 312 Schedule B.

13. Amend § 25.271 by revising paragraph (b), the introductory text for paragraph (c) and paragraph (f) to read as follows:

§ 25.271 Control of transmitting stations.

* * * * *

(b) The licensee of a transmitting earth station, other than an ESV or a VMES, licensed under this part shall ensure that a trained operator is present on the earth station site, or at a designated remote control point for the earth station, at all times that transmissions are being conducted. No operator's license is required for a person to operate or perform maintenance on facilities authorized under this part.

(c) Authority will be granted to operate a transmitting earth station, other than an ESV or a VMES, by remote control only on the conditions that:

* * * * *

(f) Rules for control of transmitting ESVs are provided in §§ 25.221 and 25.222 and rules for control of transmitting VMESs are provided in § 25.XXX.

[FR Doc. E7-13718 Filed 7-17-07; 8:45 am]

BILLING CODE 6712-01-P